DEPARTMENT OF HEALTH AND HUMAN SERVICES

[Document Identifier: OS-0990-new]

Agency Information Collection Request. 30-Day Public Comment Request

AGENCY: Office of the Secretary, HHS.

ACTION: Notice.

SUMMARY: In compliance with the requirement of the Paperwork Reduction Act of 1995, the Office of the Secretary (OS), Department of Health and Human Services, is publishing the following summary of a proposed collection for public comment.

DATES: Comments on the ICR must be received on or before September 27, 2017.

ADDRESSES: Submit your comments to OIRA_submission@omb.eop.gov or via facsimile to (202) 395-5806.

FOR FURTHER INFORMATION CONTACT: Sherrette Funn, Sherrette.Funn@hhs.gov or (202) 795-7714. When submitting comments or requesting information, please include the document identifier 0990-New-30D and project title for reference

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Project Title: Assessment of the Impact of Energy Development on the Behavioral Health of Women in Western North Dakota and Eastern Montana, The Region VIII Office of the Assistant Secretary for Health (OASH), Office on Women's Health (OWH).

Abstract: The Office on Women's Health (OWH) in the Office of the Assistant Secretary for Health, U.S. Department of Health and Human Services (HHS) is requesting approval from the Office of Management and Budget (OMB) for a new data collection for the Assessment of the Impact of Energy Development on the Behavioral Health of Women in Western North Dakota and Eastern Montana. Its mission is to provide national leadership and coordination to improve the health of women and girls through policy, education and model programs. Region VIII OASH/OWH is interested in improving women's behavioral health associated with the impact of energy development through gender based data collection and analysis. The discovery and subsequent development of the Parshall Oil Field within the Bakken region of Western North Dakota has led to significant economic opportunity and population growth in the region (Eastern Montana and Western North Dakota). Rapid population growth has many intended and unintended consequences, both positive and negative, on the social and economic environment of the region and, consequently, the population's health and well-being.

Need and Proposed Use of the Information: There are well-documented environmental health issues associated with oil and gas development, including air, water, soil, noise, and light pollution. However, there are additional social, physical and mental health effects that are less well documented. Current research is very limited, but preliminary evidence suggests that women have unmet behavioral health needs due in part to the energy development and population surge in region. These data will ultimately be used to understand the impact of energy development on the behavioral health of women in Eastern Montana and Western North Dakota. There will be a final report that is thematically organized and describes key findings and strategic recommendations for Region VIII OASH/OWH to consider supporting future evidence-based program development and implementation, policy recommendations, and future research.

Likely Respondents: Data for this assessment will be collected through three mechanisms—a survey of women living in the assessment geography, focus groups with a cross-section of women and other key groups living in the assessment geography, key leaders and stakeholders across a variety of governmental and non-governmental sectors.

The total annual burden hours estimated for this ICR are summarized in the table below.

Total Estimated Annualized Burden—Hours
Form name | Number of respondents | Number of responses per respondent | Average burden per response (in hours) | Total burden hours
Community Survey | 500 | 1 | 15/60 | 125
Focus Groups | 240 | 1 | 90/60 | 360
Interviews | 40 | 1 | 60/60 | 40
Total | 780 | 1 | 40.4/60 | 525

Terry S. Clark,
Asst Information Collection Clearance Officer.

[FR Doc. 2017-18117 Filed 8-25-17; 8:45 am]

BILLING CODE 4150-33-P